DEPARTMENT OF HEALTH AND HUMAN SERVICES

National Toxicology Program (NTP); Office of Liaison, Policy and Review; Meeting of the NTP Board of Scientific Counselors

AGENCY: National Institute of Environmental Health Sciences (NIEHS), National Institutes of Health.

ACTION: Meeting announcement and request for comments.

SUMMARY: Pursuant to Public Law 92-463, notice is hereby given of a meeting of the NTP Board of Scientific Counselors (NTP BSC). The NTP BSC is a federally chartered, external advisory group composed of scientists from the public and private sectors that provides primary scientific oversight to the NTP and evaluates the scientific merit of the NTP's intramural and collaborative programs.

DATES: The NTP BSC meeting will be held on February 24, 2009. The deadline for submission of written comments is February 6, 2009, and for pre-registering to attend the meeting, including providing notice of intent to present oral comments, is February 17, 2009. Persons needing interpreting services in order to attend should contact 301-402-8180 (voice) or 301-435-1908 (TTY). For other accommodations, contact 919-541-2475 or e-mail niehsoeeo@niehs.nih.gov. Requests should be made at least 7 days in advance of the event.

ADDRESSES: The NTP BSC meeting will be held in the Rodbell Auditorium, Rall Building at the NIEHS, 111 T. W. Alexander Drive, Research Triangle Park, NC 27709. Public comments and any other correspondence should be submitted to Dr. Barbara Shane, Executive Secretary for the NTP BSC, NTP Office of Liaison, Policy and Review, NIEHS, P.O. Box 12233, MD A3-01, Research Triangle Park, NC 27709; telephone: 919-541-4253; fax: 919-541-0295; or e-mail: shane@niehs.nih.gov. Courier address: NIEHS, 111 T.W. Alexander Drive, Room K2138, Research Triangle Park, NC 27709.

FOR FURTHER INFORMATION CONTACT: Dr. Barbara Shane (telephone: 919-541-4253 or e-mail: shane@niehs.nih.gov).

SUPPLEMENTARY INFORMATION:

Preliminary Agenda and Availability of Meeting Materials

The primary agenda topic is the peer review of draft substance profiles for some candidate substances under review for the 12th Report on Carcinogens (RoC). The draft substance profiles will be available by December 24, 2008, on the NTP BSC meeting Web site (http://ntp.niehs.nih.gov/go/165) or may be requested in hardcopy from the Executive Secretary for the NTP BSC (see ADDRESSES above). Other materials for the meeting will be posted on the Web site as available. Following the meeting, summary minutes will be prepared and made available on the meeting Web site.

Attendance and Registration

This meeting is scheduled for February 24, 2009, beginning at 8:30 a.m. and continuing until adjournment. It is open to the public with attendance limited only by the space available. Individuals who plan to attend are encouraged to register online at the NTP BSC meeting Web site by February 17, 2009, to facilitate access to the NIEHS campus. The NTP is making plans to videocast the meeting through the Internet at http://www.niehs.nih.gov/news/video/live.

Request for Comments

Written comments are invited on the draft substances profiles and should be received by February 6, 2009. Persons submitting written comments should include their name, affiliation (if applicable), phone, e-mail, and sponsoring organization (if any) with the document. Comments submitted in response to this notice will be provided to the NTP BSC and NTP staff and posted on the meeting Web site. The submitter will be identified by name, affiliation, and/or sponsoring organization, if applicable.

Time will be allotted during the meeting for the public to present oral comments to the NTP BSC on the draft substance profiles. Each organization is allowed one time slot per draft profile. At least 7 minutes will be allotted to each speaker, and if time permits, may be extended to 10 minutes at the discretion of the NTP BSC chair. Registration for oral comments will also be available at the meeting, although time allowed for presentation by on-site registrants may be less than that for pre-registered speakers and will be determined by the number of persons who register on-site.

Persons registering to make oral comments are asked, if possible, to send a copy of their statement to the Executive Secretary for the NTP BSC (see ADDRESSES above) by February 6, 2009, to enable review by the NTP BSC prior to the meeting. Written statements can supplement and may expand the oral presentation. If registering on-site and reading from written text, please bring 40 copies of the statement for distribution to the NTP BSC and NTP staff and to supplement the record.

Background Information on the Report on Carcinogens

The RoC is a public information document prepared for the U.S. Congress by the NTP in response to Section 301(b)(4) of the Public Health Service Act, as amended. The intent of the document is to provide a listing of those agents, substances, mixtures, or exposure circumstances that are either known or reasonably anticipated to cause cancer in humans and to which a significant number of people in the United States are exposed.

The NTP is following a multi-step scientific review process with multiple opportunities for public input for preparation of the 12th RoC (http://ntp.niehs.nih.gov/go/29353) that was announced in the Federal Register on April 16, 2007 [72FR18999]. Information about the review of the candidate substance for the 12th RoC, including public comments and background documents, is available on the RoC Web site (http://ntp.niehs.nih.gov/go/10091).

Background Information on the NTP Board of Scientific Counselors

The NTP BSC is a technical advisory body comprised of scientists from the public and private sectors that provides primary scientific oversight to the overall program and its centers. Specifically, the NTP BSC advises the NTP on matters of scientific program content, both present and future, and conducts periodic review of the program for the purpose of determining and advising on the scientific merit of its activities and their overall scientific quality. Its members are selected from recognized authorities knowledgeable in fields such as toxicology, pharmacology, pathology, biochemistry, epidemiology, risk assessment, carcinogenesis, mutagenesis, molecular biology, behavioral toxicology, neurotoxicology, immunotoxicology, reproductive toxicology or teratology, and biostatistics. Members serve overlapping terms of up to four years. NTP BSC meetings are held annually or biannually.

Dated: December 12, 2008.
Samuel H. Wilson,
Acting Director, National Institute of Environmental Health Sciences and National Toxicology Program.

[FR Doc. E8-30288 Filed 12-19-08; 8:45 am]

BILLING CODE 4140-01-P